FEDERAL MINE SAFETY AND HEALTH REVIEW COMMISSION

Sunshine Act Notice

TIME AND DATE: 10:00 a.m., Thursday, June 18, 2020.

PLACE: This meeting will be conducted through a videoconference involving all Commissioners. Any person wishing to listen to the proceedings may call the phone number listed below.

STATUS: Open.

MATTERS TO BE CONSIDERED: The Commission will consider and act upon the following in open session: Secretary of Labor v. Scott and Thomas, employed by Mill Branch Coal Corp., Docket No. VA 2018-103 (Issues include whether the Judge erred by dismissing civil penalty proceedings involving individuals because he determined that the proposed penalty assessments were filed too late.)

Any person attending this meeting who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll free.

PHONE NUMBER FOR LISTENING TO MEETING: 1-(866) 236-7472; Passcode: 678-100.

Authority: 5 U.S.C. 552b.

Dated: June 4, 2020.
Sarah L. Stewart,
Deputy General Counsel.

[FR Doc. 2020-12475 Filed 6-4-20; 4:15 pm]

BILLING CODE 6735-01-P